DEPARTMENT OF LABOR

Employment and Training Administration

[TA-W-65,606]

SUMCO Phoenix Corporation, Cincinnati Division, Maineville, OH; Notice of Termination of Investigation

Pursuant to Section 221 of the Trade Act of 1974, as amended, an investigation was initiated on March 16, 2009 in response to a worker petition filed on behalf of workers of SUMCO Phoenix Corporation, Cincinnati Division, Maineville, Ohio.

The petitioner has requested that the petition be withdrawn. Consequently, the investigation has been terminated.

Signed at Washington, DC, this 30th day of April 2009.
Linda G. Poole,
Certifying Officer, Division of Trade Adjustment Assistance.

[FR Doc. E9-11856 Filed 5-20-09; 8:45 am]

BILLING CODE 4510-FN-P